DEPARTMENT OF COMMERCE

International Trade Administration

[A-570-890]

Wooden Bedroom Furniture from the People's Republic of China: Extension of the Time Limit for the Preliminary Results of the Antidumping Duty Administrative Review

AGENCY: Import Administration, International Trade Administration, Department of Commerce.

DATES: September 18, 2009.

FOR FURTHER INFORMATION CONTACT: Jeff Pedersen or David Edmiston, AD/CVD Operations, Import Administration, International Trade Administration, U.S. Department of Commerce, 14th Street and Constitution Avenue, NW, Washington, DC 20230, telephone: (202) 482-2769 or (202) 482-0989, respectively.

SUPPLEMENTARY INFORMATION: On February 26, 2009, the Department of Commerce (“Department”) published a notice of initiation of an administrative review of the antidumping duty order on wooden bedroom furniture from the People's Republic of China. See Initiation of Antidumping Duty Administrative Review, 74 FR 8776 (February 26, 2009). The period of review is January 1, 2008, through December 31, 2008. The preliminary results of the administrative review are currently due no later than October 5, 2009.

Extension of Time Limit for Preliminary Results

Pursuant to section 751(a)(3)(A) of the Tariff Act of 1930, as amended (the “Act”), the Department shall make a preliminary determination in an administrative review of an antidumping duty order within 245 days after the last day of the anniversary month of the date of publication of the order. However, if it is not practicable to complete the review within this time period, section 751(a)(3)(A) of the Act allows the Department to extend the time period to a maximum of 365 days. Completion of the preliminary results of this review within the 245-day period is not practicable because the Department needs additional time to analyze information pertaining to the respondents' sales practices, factors of production, and corporate relationships, to issue and review responses to supplemental questionnaires, and then verify the submitted information. Therefore, in accordance with section 751(a)(3)(A) of the Act, the Department is fully extending the time period for completing the preliminary results of the instant administrative review until February 1, 2010, the first business day after the fully extended due date of January 31, 2010. The final results continue to be due 120 days after the publication of the preliminary results.

This notice is published pursuant to sections 751(a) and 777(i) of the Act.

Dated: September 14, 2009.
John M. Andersen,
Acting Deputy Assistant Secretary for Antidumping and Countervailing Duty Operations.

[FR Doc. E9-22499 Filed 9-17-09; 8:45 am]

BILLING CODE 3510-DS-S